DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for Internet Nonprobability Panel Pretesting.

Form Number(s): None.

OMB Control Number: None.

Type of Request: New collection.

Burden Hours: 8,334.

Number of Respondents: 50,000.

Average Hours Per Response: 10 minutes.

Needs and Uses: The U.S. Census Bureau is requesting a new OMB generic clearance to conduct a variety of medium-scale iterative Internet research pretesting activities. We will dedicate a block of hours to these activities for each of the next three years. OMB will be informed in writing of the purpose and scope of each of these activities, as well as the time frame and number of burden hours used. The number of hours used will not exceed the number set aside for this purpose.

The Census Bureau is committed to conducting research in a cost efficient manner. Currently, several stages of testing occur in research projects at the Census Bureau. As a first stage of research, the Census Bureau pretests questions on surveys or censuses and evaluates the usability and ease of use of Web sites using a small number of subjects during focus groups, usability and cognitive testing. These projects are in-person and labor-intensive, but typically only target samples of 20 to 30 respondents. This small-scale work is done through an existing OMB generic clearance. Often the second stage is a larger-scale field test with a split-panel design of a survey or a release of a Census Bureau data dissemination product with a feedback mechanism. The field tests often involve a lot of preparatory work and often are limited in the number of panels tested due to the cost considerations. They are often targeted at very large sample sizes with over 10,000 respondents per panel. These are typically done using stand-alone OMB clearances.

Cost efficiencies can occur by testing some research questions in a medium-scale test, using a smaller number of participants than what we typically use in a field test, yet a larger and more diverse set of participants than who we recruit for cognitive and usability tests. Using Internet panel pretesting, we can answer some research questions more thoroughly than in the small-scale testing, but less expensively than in the large-scale field test. This clearance seeks to establish a medium-scale (defined as having sample sizes from 100-2000 per study), cost-efficient method of testing questions and contact strategies over the Internet through different types of nonprobability samples.

For example, email has been identified as a possible cost-effective notification strategy for online data collection. Email has not been used extensively as a notification mode for past censuses nor other government surveys. (Please see “Supporting literature” section at the end of this section.) Prior to implementing an email strategy, the Census Bureau needs to determine the best email invitation to maximize the likelihood that someone will open the email and initiate the survey. Assessment of numerous email variations in a large-scale test would be cost-prohibitive. Medium-scale testing of email variations is more efficient. This research will be used to answer some fundamental questions about how to optimize email (and possibly text message) contacts.

This research program will be used by the Census Bureau and survey sponsors to test alternative contact methods, including emails and text messages (via an opt-in strategy), improve online questionnaires and procedures, reduce respondent burden, and ultimately increase the quality of data collected in the Census Bureau censuses and surveys. We will use the clearance to conduct pretesting of decennial and demographic census and survey questionnaires prior to fielding them as well as communications and/or marketing strategies and data dissemination tools for the Census Bureau. The primary method of identifying measurement problems with the questionnaire or survey procedure is split panel tests. This will encompass both methodological and subject matter research questions that can be tested on a medium-scale nonprobability panel.

This research program will also be used by the Census Bureau for remote usability testing of electronic interfaces and to perform other qualitative analyses such as respondent debriefings. An advantage of using remote, medium-scale testing is that participants can test products at their convenience using their own equipment, as opposed to using Census Bureau-supplied computers. A diverse participant pool (geographically, demographically, or economically) is another advantage. Remote usability testing would use click through rates and other paradata, accuracy and satisfaction scores, and written qualitative comments to determine optimal interface designs and to obtain feedback from respondents.

The public will be offered an opportunity to participate in this research remotely, by signing up for an online research panel. If a person opts in, the Census Bureau will occasionally email (or text, if applicable) the person an invitation to complete a survey for one of our research projects. Invited respondents will be told the topic of the survey, and how long it will take to complete it. Under this clearance, we will also conduct similar-scale and similarly designed research using other email lists to validate preliminary findings and expand the research.

One of the testing methodologies to be used is Split sample experiments. This involves testing alternative versions of questionnaires, invitations to questionnaires (e.g., emails or text messages), or Web sites, at least some of which have been designed to address problems identified in draft versions or versions from previous waves. The use of multiple questionnaires, invitations, or Web sites, randomly assigned to permit statistical comparisons, is the critical component here; data collection will be via the Internet. Comparison of revised questionnaires (or invitations) against a control version, preferably, or against each other facilitates statistical evaluation of the performance of alternative versions of the questionnaire (or invitation or Web site).

The number of versions tested and the number of cases per version will depend on the objectives of the test. We cannot specify with certainty a minimum panel size, although we would expect that no questionnaire versions would be administered to less than fifty respondents.

Split sample tests that incorporate methodological questionnaire design experiments will have a larger maximum sample size (up to several hundred cases per panel) than other pretest methods. This will enable the detection of statistically significant differences, and facilitate methodological experiments that can extend questionnaire design knowledge more generally for use in a variety of Census Bureau data collection instruments.

Another testing methodology is Usability Interviews. This method involves getting respondent input to aid in the development of automated questionnaires and Web sites and associated materials. The objective is to identify problems that keep respondents from completing automated questionnaires accurately and efficiently with minimal burden, or that prevent respondents from successfully navigating Web sites and finding the information they seek. Remote usability testing may be conducted under this clearance, whereby a user would receive an invitation to use a Web site or survey, then answer targeted questions about that experience.

This clearance will only cover pretests primarily conducted remotely, via the Internet. Since the types of surveys included under the umbrella of the clearance are so varied, it is difficult to specify at this point what kinds of activities would be involved in any particular test, but a key component will be the comparison of one invitation, questionnaire or Web site to another.

We will provide OMB with a copy of questionnaires and invitations in advance of any testing activity. Depending on the stage of development, this may be the printed material from the last round of a survey or a revised draft based on analysis of other evaluation data. For a test of alternative procedures, the description and rationale for the procedures would be submitted. We will also provide a description of the sample design and the planned administration. OMB will endeavor to provide comments on substantive issues within 10 working days of receipt.

The Census Bureau will consult with the Economics and Statistics Administration (ESA) and OMB prior to submission on the appropriateness of submissions under this clearance that may raise policy or substantive issues. With respect to ESA, this will include all research and testing related to the American Community Survey (ACS) and the 2020 decennial census. In addition, the Census Bureau will consult with ESA on any research and testing proposals that are presented to the Data Stewardship Executive Policy (DSEP) Committee. Consultation with ESA includes the Census Bureau providing copies of the materials to be tested in advance of any testing.

The Census Bureau will send ESA and OMB an annual report at the end of each year summarizing the number of hours used, as well as the nature and results of the activities completed under this clearance.

The information collected in this program of developing and testing questionnaires will be used by staff from the Census Bureau and sponsoring agencies to evaluate and improve the quality of the data in the surveys and censuses that are ultimately conducted. Because the questionnaires being tested under this clearance are still in the process of development, the data that result from these collections are not considered official statistics of the Census Bureau or other Federal agencies. Data will be included in research reports prepared for sponsors inside and outside of the Census Bureau. The results may also be prepared for presentations related to survey methodology at professional meetings or publications in professional journals.

Affected Public: Individuals or households.

Frequency: On occasion.

Respondent's Obligation: Voluntary.

Legal Authority: Data collection for this project is authorized under the authorizing legislation for the questionnaire being tested. This may be Title 13 U.S.C., Sections 131, 141, 161, 181, 182, 193, and 301 for Census Bureau-sponsored surveys, and Title 13 and 15 for surveys sponsored by other Federal agencies. We do not now know what other titles will be referenced, since we do not know what survey questionnaires will be pretested during the course of the clearance.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: January 6, 2014.
Glenna Mickelson,
Management Analyst, Office of the Chief Information Officer.

[FR Doc. 2014-00147 Filed 1-8-14; 8:45 am]

BILLING CODE 3510-07-P